DEPARTMENT OF COMMERCE

International Trade Administration

[A-523-812]

Circular Welded Carbon-Quality Steel Pipe From Oman: Partial Rescission of Antidumping Duty Administrative Review; 2018-2019

AGENCY: Enforcement and Compliance, International Trade Administration, Department of Commerce.

SUMMARY: The Department of Commerce (Commerce) is partially rescinding the administrative review of the antidumping duty order on circular welded carbon-quality steel pipe from Oman for the period of review (POR) December 1, 2018 through November 30, 2019.

DATES: Applicable July 14, 2020.

FOR FURTHER INFORMATION CONTACT: Dennis McClure or Robert Palmer, AD/CVD Operations, Office VIII, Enforcement and Compliance, International Trade Administration, U.S. Department of Commerce, 1401 Constitution Avenue NW, Washington, DC 20230; telephone: (202) 482-5973 or (202) 482-9068, respectively.

SUPPLEMENTARY INFORMATION:

Background

On December 6, 2019, Commerce published a notice of opportunity to request an administrative review of the antidumping duty order on circular welded carbon-quality steel pipe from Oman.¹ Pursuant to requests from interested parties, Commerce initiated an administrative review with respect to four companies, in accordance with section 751(a) of the Tariff Act of 1930, as amended (the Act).² Subsequent to the initiation of the administrative review, the domestic interested parties ³ timely withdrew their request for an administrative review of three companies, as discussed below. No other party requested an administrative review of these companies.

¹ See Antidumping or Countervailing Duty Order, Finding, or Suspended Investigation; Opportunity to Request Administrative Review, 84 FR 66880 (December 6, 2019).

² See Initiation of Antidumping and Countervailing Duty Administrative Reviews, 85 FR 6896 (February 6, 2020) (Initiation Notice).

³ Collectively, the domestic interested parties are Nucor Tubular Products Inc., Wheatland Tube Company, and Bull Moose Tube.

Partial Rescission of Administrative Review

Pursuant to 19 CFR 351.213(d)(1), Commerce will rescind an administrative review, in whole or in part, if the party that requested a review withdraws its request within 90 days of the date of publication of the notice of initiation.⁴ The request for an administrative review was withdrawn by the established deadline for the following companies: Al Samna Metal Manufacturing & Trading Company LLC; Bollore Logistics (Oman) LLC; and Transworld Shipping Trading & Logistics Services LLC.⁵ As a result, Commerce is rescinding this review with respect to these three companies, in accordance with 19 CFR 351.213(d)(1). The review will continue with respect to Al Jazeera Steel Products Co. SAOG.⁶

⁴ On April 24, 2020, Commerce decided to toll all deadlines in administrative reviews by 50 days. See Memorandum, “Tolling of Deadlines for Antidumping and Countervailing Duty Administrative Reviews in Response to Operational Adjustments Due to COVID-19,” dated April 24, 2020. Therefore, Commerce tolled the deadline for the withdrawal of the request for this administrative review until June 25, 2020.

⁵ See Domestic Interested Parties' Letter, “Circular Welded Carbon-Quality Steel Pipe from Oman: Partial Withdrawal of Request for Administrative Review,” dated June 25, 2020.

⁶ See Initiation Notice, 85 FR at 6898.

Assessment

Commerce will instruct U.S. Customs and Border Protection (CBP) to assess antidumping duties on all appropriate entries. For the companies for which this review is rescinded, antidumping duties shall be assessed at rates equal to the cash deposit of estimated antidumping duties required at the time of entry, or withdrawal from warehouse for consumption, in accordance with 19 CFR 351.212(c)(l)(i). Commerce intends to issue appropriate assessment instructions to CBP 15 days after publication of this notice.

Notification to Importers

This notice serves as a final reminder to importers of their responsibility under 19 CFR 351.402(f)(2) to file a certificate regarding the reimbursement of antidumping duties prior to liquidation of the relevant entries during this review period. Failure to comply with this requirement could result in the presumption that reimbursement of antidumping duties occurred and the subsequent assessment of doubled antidumping duties.

Notification Regarding Administrative Protective Orders

This notice also serves as a reminder to parties subject to administrative protective order (APO) of their responsibility concerning the return or destruction of proprietary information disclosed under APO in accordance with 19 CFR 351.305, which continues to govern business proprietary information in this segment of the proceeding. Timely written notification of the return or destruction of APO materials or conversion to judicial protective order is hereby requested. Failure to comply with the regulations and terms of an APO is a violation which is subject to sanction.

Notification to Interested Parties

This notice is issued and published in accordance with sections 751(a)(1) and 777(i)(l) of the Act, and 19 CFR 351.213(d)(4).

Dated: July 8, 2020.
James Maeder,
Deputy Assistant Secretary for Antidumping and Countervailing Duty Operations.

[FR Doc. 2020-15163 Filed 7-13-20; 8:45 am]

BILLING CODE 3510-DS-P